ENVIRONMENTAL PROTECTION AGENCY

[ER-FRL-6693-3]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20070377, ERP No. D-COE-E39070-TN, Center Hill Dam and Lake Project, Changes to Operational Guide Curves Pool Elevations, Chancey Fork River and Cumberland River, Dekalb County, TN.

Summary: EPA expressed environmental concerns about impacts to water quantity and impacts related to dam releases, and also requested additional dam failure risk assessment information.

Rating EC2.

EIS No. 20070396, ERP No. D-AFS-L65542-ID, Cherry Dinner Project, Management of Vegetation, Hazardous Fuels, and Access Plus Watershed Improvements, Amendment to the Forest Plan, Palouse Ranger District, Clearwater National Forest, Latah County, ID.

Summary: EPA expressed environmental concerns about water quality impacts within streams and creeks that are already on the state of Idaho's current 303(d) list due to temperature and sediment load exceedances.

Rating EC2.

EIS No. 20070445, ERP No. D-USN-E11063-00, Shock Trail of the MESA VERDE (LPD 19), San Antonio (LPD 17) Class Ship designated as the Shock Ship for Proposed Shock Trail, Possible Offshore Locations are Naval Station Norfolk, VA; Naval Station Mayport, FL; and Naval Air Station Pensacola, FL.

Summary: EPA expressed environmental concerns about impacts to avian and marine species.

Rating EC1.

EIS No. 20070364, ERP No. DS-COE-E01013-FL, Rock Mining in the Lake Belt Region Plan, Continuance of Limestone Mining Construction, section 404 Permit, Miami-Dade County, FL.

Summary: EPA expressed environmental concerns about water quality, wetland and mining-related seepage impacts, and requested additional mitigation and monitoring measures.

Rating EC2.

Dated: November 19, 2007.
Robert W. Hargrove,
Director, NEPA Compliance Division, Office of Federal Activities.

[FR Doc. E7-22851 Filed 11-21-07; 8:45 am]

BILLING CODE 6560-50-P